DEPARTMENT OF HEALTH AND HUMAN SERVICES

Administration for Children and Families

[Program Notice No. ACF/ACYF/RHYP 2002-01]

Notice of Availability of Financial Assistance and Request for Applications for the National Communication System for Runaway and Homeless Youth Grant

AGENCY: Family and Youth Services Bureau, Administration on Children, Youth and Families, ACF, HHS.

ACTION: This notice announces the availability of financial assistance and request for applications for the Fiscal Year 2002 National Communication System for Runaway and Homeless Youth.

This notice announces the availability of the full official fiscal year 2002 Program Announcement for the National Communication System for Runaway and Homeless Youth. The full official announcement must be used to apply for grant funding under the competitive grant area and is available by calling or writing the ACYF Operations Center (address below) or by downloading the announcement from the FYSB Web site at http://www.acf.dhhs.gov/programs/fysb/fund-anncmt.htm

Legislative Authority: The Runaway and Homeless Youth Act (RHY Act) as amended Pub. L. 106-71 authorizes a grant for the National Communication System for Runaway and Homeless Youth.

Deadlines: The deadline for RECEIPT of applications for a new grant under this announcement is:

CFDA# | Programs | Deadline dates | Deadline times
93.623 | National Communication System for Runaway and Homeless Youth | November 30, 2001 | 4:30 p.m. (EDT)

Mailing and Delivery Instructions: Applications must be in hard copy. Mailed applications and applications hand delivered by applicants, applicant couriers, overnight/express mail couriers or any other method of hand delivery shall be considered as meeting an announced deadline if they are received on or before the deadline, at the following address: ACYF Operations Center, 1815 North Fort Myer Drive, Suite 300, Arlington, VA 22209, Telephone: 1-800-351-2293, Email: FYSB@lcgnet.com.

Applications may be hand delivered to the above address between the hours of 8 a.m. and 4:30 p.m. (EDT), Monday through Friday (excluding Federal Holidays).

Applicants are responsible for mailing and delivering applications well in advance of deadlines to ensure that the applications are received on time. Applications received after 4:30 p.m. (EDT) on the deadline date will be classified as late. Postmarks and other similar documents do not establish receipt of an application.

ACF will not accept applications delivered by fax or e-mail regardless of date or time of submission and receipt.

Late Applications: Applications which do not meet the criteria stated above and are not received by the deadline date and time are considered late applications. The Administration for Children and Families (ACF) will notify each late applicant that its application will not be considered in the current competition.

Extension of Deadline. ACF may extend an application deadline for applicants affected by acts of God such as floods and hurricanes, or when there is widespread disruption of the mail service, or for other disruptions of services, such as a prolonged blackout, that affect the public at large. A determination to waive or extend deadline requirements rests with the Chief Grants Management Officer.

SUPPLEMENTARY INFORMATION: Grant award for FY 2002 funds will be made by September 30, 2002, for the National Communications System for Runaway and Homeless Youth.

The estimated funds available that may be awarded under this program announcement in $1,000,000.

Competitive Grant Area and Summary of Evaluation Criteria

Part I: Competitive Area: National Communication System for Runaway and Homeless Youth (CFDA#93.623)

Program Purpose, Goals and Objectives: The Administration on Children, Youth and Families will award one new competitive grant for approximately $1,000,000 to operate the Runaway and Homeless Youth National Communication System (NCS). The overall purpose of the NCS is to link youth with a family member or guardian and/or an available resource that can provide and/or assist the youth in acquiring needed services. To fulfill this purpose, the system's goals must include the provision of information, referral services, crisis intervention and communication services to runaway and homeless youth and their families.

To fulfill the objectives of the legislation, the National Communication System must provide a neutral and confidential channel of communication that is available on a 24-hours per day, seven days per week basis throughout the United States, and through which runaway and homeless youth may re-establish contact with their parents or guardians. The system must be able to identify resources for runaway and homeless youth in the area in which the youth are located; provide pre-runaway prevention counseling and identify local resources to assist young people who are contemplating running away and who contact the communication system before they run; provide crisis intervention to clients, when appropriate, to address problems and/or issues surfaced during telephone contact; address reunification when feasible and provide access to transportation services for this purpose; allow families/guardians to leave messages or have conference calls with runaway youth and provide familes/guardians with advice and referrals to agencies which might assist them.

Eligible Applicants: Any State, unit of local government, combination of units of local government, public or private agency, organization, institution, or other non-profit entity is eligible to apply for these funds. Federally recognized Indian Tribes are eligible to apply. Non-Federally recognized Indian tribes and urban Indian organizations are also eligible to apply for grants as private, non-private agencies.

Federal Share of Project Costs: $1,000,000 per year. The maximum Federal share for a 5-year project period is $5,000,000.

Applicant Share of Project Costs: Applicants must provide a non-Federal share or match of at least ten percent of the Federal funds awarded. The non-Federal share may be met by cash or in-kind contributions, although applicants are encouraged to meet their match requirements through cash contributions. Therefore, a five-year project costing $5,000,000 Federal funds (based on an award of $1,000,000 per 12-month budget period) must provide a match of at least $500,000 ($100,000 per budget period). Grantees will be held accountable for commitments of non-Federal resources even if over the amount of the required match. Failure to provide the amount will result in disallowance of Federal match.

Duration of Project: This announcement solicits applications for one new grant for a National Communication System for up to five years (60-month project period). The intital grant award, made on a competitive basis, will cover a one-year (12-month) budget period. Applications for continuation grants beyond the first budget period, but within the 60-month project period, will be considered in subsequent years on a non-competitive basis, subject to the availability of funds, satisfactory performance of the grantee and determination that continued funding would be in the best interest of the government.

Project Summary/Abstract: Applicant must provide a one page (or less) summary of the project description with reference to the funding request.

Full Project Description: Applicant must describe the project clearly in 40 pages or less based on the outline and guidelines provided in the full official program announcement.

Part II. Uniform Project Description Requirements and Evaluation Criteria

Note that each criterion is preceded by the ACF Uniform Project Description (UPD) generic project description requirement as approved by the Office of Management and Budget (OMB), Control Number 0970-0139, Expiration Date 12/31/2003. The UPD requirement is followed by the evaluation criteria specific to the Runaway and Homeless Youth program.

(a.) UPD Requirement for Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Evaluation Criterion for Objectives and Need for Assistance (15 point)

1. Applicant must specify the goals and objectives of the project and how implementation will fulfill the purposes of the legislation identified above.

2. Applicant must discuss the need for assistance by describing the conditions of youth and families to be served, emphasizing the incidence and characteristics of runaway and homeless youth and their families nationwide. The discussion must address major issues and problems related to the use of youth hotline services by runaway youth, their families and youth serving agencies.

3. Applicant must provide descriptive information on the availability of information, referral, crisis intervention and youth hotline services to runaway and homeless youth across the nation and how the applicant would coordinate with such agencies and organizations to help ensure that callers receive the assistance they need to avoid service duplication.

(b.) UPD Requirement for Results or Benefits Expected

Identify the results and benefits to be derived. For example, when applying for a grant to serve adolescents and their families, describe who will receive services, where and how these services will be provided, and how the services will benefit the youth, their families and the community.

Evaluation Criterion for Results or Benefits Expected (20 points)

1. Applicant must indicate the number of runaway and homeless youth callers and their families to be assisted annually through each component of the proposed services, e.g.: crisis intervention counseling, referrals, conference calling, message delivery services, etc.

2. Applicant must discuss the anticipated impact and benefit of these services upon runaway and homeless youth, their families and upon the existing network of national and local runaway and homeless youth service providers.

3. Applicant must discuss the anticipated results of proposed activities that promote awareness of the NCS among youth, service providers and the general community.

4. Applicant must describe the criteria to be used to evaluate the results and success of the project, including a description of the types of data that will be collected on callers and services provided.

(c.) UPD Requirement for Approach

Outline a plan of action that describes the scope and detail of how the proposed work will be accomplished. Account for all functions or activities identified in the application. Cite factors that might accelerate or decelerate the work and state your reason for taking the proposed approach rather than others. describe any unusual features of the project such as design or technological innovations, reductions in cost or time, or extraordinary social and community involvement.

Provide quantitative monthly or quarterly projections of the accomplishments to be achieved for each function or activity in such terms as the number of people to be served and the number of activities accomplished. When accomplishments cannot be quantified by acitivity or function, list them in chronological order to show the schedule of accomplishments and their target dates.

If any data is to be collected, maintained, and/or disseminated, clearance may be required from the U.S. Office of Management and Budget (OMB). This clearance pertains to any collection of information that is conducted or sponsored by ACF.

List organizations, cooperating entities, consultants, or other key individuals who will work on the project along with a short description of the nature of their effort or contribution.

Evaluation Criterion for Approach (35 points)

1. Applicant must describe its youth development approach or philosophy and how it underlies and integrates all proposed activities, including provision of services to runaway and homeless youth and involvement of the youth's parents or legal guardians and/or youth service providers. Specific information must be provided on how youth will be involved in the design, operation and evaluation of the project.

2. Applicant must describe the approach and method that would be used to ensure that the NCS is a neutral and confidential telephone information, referral and crisis intervention service available to runaway and homeless youth and their families. Applicant must describe the procedures to be put in place to ensure that adequate telephone coverage is provided across the United States, that the communication system will be available 24 hours per day, seven days per week, and that paid qualified staff will supervise these operations.

3. Applicant must describe how it would establish and maintain service linkages with other youth-serving agencies, including other youth hotline services and how it would work with such agencies to deliver more effective services. This would include explaining the applicant's technical capacity to create and maintain a listing of resources for youth and its ability to facilitate communication among youth service providers.

4. Applicant must describe the approach for recruiting, training, supervising and using paid staff and volunteers who would receive calls and provide crisis intervention counseling.

5. Applicant must describe its plans for conducting outreach and public education activities throughout the United States to increase awareness and visibility of the NCS and its services.

6. Applicant must discuss potential approaches and plans for minimizing problems such as crank/obscene calls and busy signals.

7. Applicant must thoroughly describe the capabilities of the telephone and computer systems to be used to handle the calls from throughout the United States each year. Information such as the number of incoming and outgoing lines, conference call capabilities and service integration with computers must be described. Problems or issues that's related to these systems should also be addressed, as well as the time needed to get these systems up and running.

8. Applicant must identify the location of the place, from which services are to be provided and provide a plan of the physical facility, focusing on location of telephone stations, computer terminals and other equipment.

9. Applicant must describe general procedures for maintaining confidentiality of records on the youth and families served and specifically address the issue of confidentiality as it relates to the use of computer and communications technology. Procedures must strictly prohibit the disclosure or transfer of records containing the identity of individual youths to any person or to any public or private agency without the consent of the individual youth, parent or legal guardian. Disclosures without consent can be made to another agency compiling statistical records if individual identities are not provided or to a government agency involved in the disposition of criminal charges against an individual runaway or homeless youth.

10. Applicant must agree to cooperate with any research, data collection or evaluation efforts sponsored by the Administration for Children and Families.

11. Applicant must describe specific plans for accomplishing program phase-out during the last six months of the project period in the event the applicant does not receive a new Federal award.

(d.) UPD Requirement for Staff and Position Data

Provide a biographical sketch for each key person appointed and a job description for each vacant key position. A biographical sketch will also be required for new key staff as appointed.

Evaluation Criterion for Staff and Position Data (10 points)

1. Applicant must include a description of current and proposed staff skills and knowledge regarding runaway and homeless youth and indicate how staff would be utilized in achieving the goals and objectives of the program. Brief resumes of current and proposed staff, as well as position descriptions, should be included. Position descriptions must specifically describe the job as it relates to the proposed project.

2. Applicant must describe the staffing pattern that would be used to ensure that well-trained personnel would be assigned to each shift during the 24 hours per day, seven days per week operating period.

(e.) UPD Requirement for Organizational Profile

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information.

Any nonprofit organization submitting an application must submit proof of its nonprofit status in its application at the time of submission. The nonprofit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Evaluation Criteria for Organizational Profile (10 points)

1. Applicant must discuss staff and organizational experience in working with runaway and homeless youth populations. As required by the RHY Act, priority for funding will be given to organizations with experience in providing national telephone hotline services to runaway and homeless youth in a manner that is in concert with the evaluation criteria for the NCS competitive grant program. Applicant must document the services it provides to this specific target population and the length of time that the applicant has been involved in the provision of these services.

2. Applicant must provide a short description of the applicant agency's organization, the experience of the organization with youth development, youth issues and youth and family services, and the role of any other offices or organizations that will be directly involved in this effort. Organizational charts may be provided.

(f.) UPD Requirement for Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Evaluation Criterion for Budget and Budget Justification (10 Points)

1. Applicant must show that costs of the proposed project are reasonable and justified in terms of numbers of youth and families to be served, types and quantities of services to be provided and the anticipated results and benefits. Discussion should refer to the budget information presented on Standard Forms 424 and 424A and in the applicant's budget justification.

2. Applicant must describe the fiscal control and accounting procedures that will be used to ensure prudent use, proper disbursement and accurate accounting of funds received under this program announcement.

3. Applicant must describe its plan for maximizing the non-Federal share through private sector resources that will enhance the overall program.

Required Notification of the Single Point of Contact

This program is covered under Executive Order (E.O.) 12372, “Intergovernmental Review of Federal Programs,” and 45 CFR part 100, “Intergovernmental Review of Department of Health and Human Services Programs and Activities.” The order was issued with the desire to foster the intergovernmental partnership and strengthen federalism by relying on State and local processes for the coordination and review of proposed Federal financial assistance and direct Federal development. Under the Order, States may design their own processes for reviewing and commenting on proposed Federal assistance under covered programs and designate an entity to perform this function. The official list of those entities can be found at http://www.whitehouse.gov/omb/grants/spoc.html or by calling the ACYF Operations Center at 1-800-351-2293.

Applicants must submit any required material to the SPOCs as early as possible so that the program office can obtain and review SPOC comments as part of the award process. The applicant must submit all required materials, if any, to the SPOC and indicate the date of this submittal (or date of contact if no submittal is required) on the Standard Form 424, item 16a.

Under 45 CFR 100.8(a)(2), a SPOC has 60 days from the application deadline date to comment on proposed new awards. SPOCs are encouraged to eliminate the submission of routine endorsements as official recommendations. Additionally, SPOCS are requested to clearly differentiate between mere advisory comments and those official State process recommendations which they intend to trigger the “accommodate or explain” rule. When comments are submitted directly to ACYF, they must be addressed to: Department of Health and Human Services, Administration on Children, Youth and Families, Family and Youth Services Bureau, Room 2038, Mary Switzer Building, 330 C Street, SW., Washington, DC 20447, Attention: Dorothy Pittard.

Dated: September 17, 2001.
James A. Harrell,
Acting Commissioner, Administration on Children, Youth and Families.

[FR Doc. 01-23766 Filed 9-21-01; 8:45 am]

BILLING CODE 4184-01-M